DEPARTMENT OF TRANSPORTATION

Coast Guard

[USCG-2002-11781]

Merchant Marine Personnel Advisory Committee

AGENCY: Coast Guard, DOT.

ACTION: Notice of meetings.

SUMMARY: The Merchant Marine Personnel Advisory Committee (MERPAC) and its working groups will meet to discuss various issues relating to the training and fitness of merchant marine personnel. MERPAC advises the Secretary of Transportation on matters relating to the training, qualifications, licensing, certification, and fitness of seamen serving in the U.S. merchant marine. All meetings will be open to the public.

DATES: MERPAC will meet on Tuesday, April 9, 2002, from 8 a.m. to 4 p.m. and on Wednesday, April 10, 2002, from 8 a.m. to 3 p.m. These meetings may adjourn early if all business is finished. Requests to make oral presentations should reach the Coast Guard on or before March 26, 2002. Written material and requests to have a copy of your material distributed to each member of the committee or subcommittee should reach the Coast Guard on or before March 26, 2002.

ADDRESSES: MERPAC will meet on both days at the MEBA Engineering School, 27050 St. Michaels Road, Easton, MD 21601. Further directions regarding the location of the MEBA School may be obtained by contacting Mr. Lee Kincaid at (410) 822-9600. Send written material and requests to make oral presentations to Commander Brian J. Peter, Commandant (G-MSO-1), U.S. Coast Guard Headquarters, 2100 Second Street SW, Washington, DC 20593-0001. This notice is available on the Internet at http://dms.dot.gov.

FOR FURTHER INFORMATION CONTACT: For questions on this notice, contact Commander Brian J. Peter, Executive Director of MERPAC, or Mr. Mark C. Gould, Assistant to the Executive Director, telephone 202-267-0229, fax 202-267-4570, or e-mail mgould@comdt.uscg.mil.

SUPPLEMENTARY INFORMATION: Notice of these meetings is given under the Federal Advisory Committee Act, 5 U.S.C. App. 2.

Agenda of April 9, 2002 Meeting

The full committee will meet to discuss the objectives for the meeting. The committee will then break up into the following working groups: Task Statement 30, concerning utilization of military sea service and training for merchant marine licenses; Task Statement 31, concerning manning on vessels engaged in domestic service; and, Task Statement 32, concerning updating Automatic Radar Plotting Aid (ARPA) and radar observer training. New working groups may be formed to address any new issues or tasks. At the end of the day, the working groups will make a report to the full committee on what has been accomplished in their meetings. No action will be taken on these reports on this date.

Agenda of April 10, 2002 Meeting

The agenda includes the following:

(1) Introduction.

(2) Working Group Reports:

(a) Task Statement 30, concerning utilization of military sea service and training for merchant marine licenses.

(b) Task Statement 31, concerning manning on vessels engaged in domestic service.

(c) Task Statement 32, concerning updating ARPA and radar observer training.

(3) Other items to be discussed:

(a) Standing Committee—Prevention Through People.

(b) Other items brought up for discussion by the committee or the public.

Procedural

Both meetings are open to the public. Please note that the meetings may adjourn early if all business is finished. At the Chair's discretion, members of the public may make oral presentations during the meetings. If you would like to make an oral presentation at a meeting, please notify the Executive Director no later than March 26, 2002. Written material for distribution at a meeting should reach the Coast Guard no later than March 26, 2002. If you would like a copy of your material distributed to each member of the committee or subcommittee in advance of the meeting, please submit 25 copies to the Executive Director no later than March 26, 2002.

Information on Services for Individuals With Disabilities

For information on facilities or services for individuals with disabilities or to request special assistance at the meetings, contact the Assistant Executive Director as soon as possible.

Dated: March 6, 2002.
Howard L. Hime,
Acting Director of Standards, Marine Safety and Environmental Protection.

[FR Doc. 02-5875 Filed 3-11-02; 8:45 am]

BILLING CODE 4910-15-P